DEPARTMENT OF TRANSPORTATION

Federal Aviation Administration

14 CFR Part 71

Proposed Establishment of Class C Airspace at Harrisburg International Airport, PA; Public Meeting

Correction

In proposed rule document 2021-11654, appearing on page 29969, in the issue of Friday, June 4, 2021, make the following correction:

On page 29969, second column, beginning on the thirtieth line, the hyperlink that reads: https://zoom.us/webinar/register/WN_XJe2ZgfQQB2Kr2;WbEIKWIw was inadvertently published incorrectly and should read: https://zoom.us/webinar/register/WN_XJe2ZgfQQB2Kr2WbEIKWIw.

[FR Doc. C1-2021-11654 Filed 6-17-21; 4:15 pm]

BILLING CODE 0099-10-P